INTERNATIONAL TRADE COMMISSION

[Investigation No. 731-TA-385 (Third Review)]

Granular Polytetrafluoroethylene Resin From Italy

AGENCY: United States International Trade Commission.

ACTION: Revised schedule for the adequacy phase of the subject five-year review concerning the antidumping duty order on granular polytetrafluoroethylene resin (“granular PTFE resin”) from Italy.

DATES: Effective Date: January 21, 2011.

FOR FURTHER INFORMATION CONTACT: Mary Messer (202-205-3193), Office of Investigations, U.S. International Trade Commission, 500 E Street, SW., Washington, DC 20436. Hearing-impaired persons can obtain information on this matter by contacting the U.S. International Trade Commission's TDD terminal on 202-205-1810. Persons with mobility impairments who will need special assistance in gaining access to the U.S. International Trade Commission (“Commission”) should contact the Office of the Secretary at 202-205-2000. General information concerning the Commission may also be obtained by accessing its Internet server (http://www.usitc.gov). The public record for this review may be viewed on the Commission's electronic docket (EDIS) at http://edis.usitc.gov.

SUPPLEMENTARY INFORMATION: On November 1, 2010, the Commission published its notice of institution and the Department of Commerce (“Commerce”) published its notice of initiation for the subject five-year reviews concerning the antidumping duty orders on granular PTFE resin from Italy and Japan (75 FR 67082-67083 and 67105-67108, November 1, 2010). However, Commerce's notice concerning the initiation of the review on granular PTFE resin from Italy was incorrectly published.¹

¹ While Commerce's Federal Register notice of November 1, 2010, correctly identified a review on granular PTFE resin from Japan, it did not correctly identify the review of the order on granular PTFE resin from Italy. Instead, the notice incorrectly described the review as pertaining to an order concerning certain cut-to-length carbon quality steel plate.

On November 22, 2010, Commerce notified the Commission that it did not receive a notice of intent to participate in the reviews of the antidumping duty orders on granular PTFE from Italy and Japan, and that it intended to revoke those antidumping duty orders not later than 90 days after the November 1, 2010, Federal Register notice of initiation.² In that letter, Commerce noted that the initiation of review for granular PTFE resin from Italy was incorrectly published in the Federal Register. The Federal Register published a correction of the initiation notice on January 12, 2011 (76 FR 2083). On January 13, 2011, Commerce notified the Commission that it does not intend to issue a final determination revoking the antidumping duty order on granular PTFE resin from Italy because of the error in publication concerning the initiation of that review.³ Commerce also notified the Commission that, although it has extended its deadline for domestic parties to submit a notice of intent to participate in its review of the order concerning granular PTFE resin from Italy to no later than fifteen days from the date of publication of its correction notice, the initiation date of the subject review concerning Italy remains November 1, 2010.

² Letter from Edward Yang, Senior Director, AD/CVD Operations, China/NME Unit, Department of Commerce to Catherine DeFilippo, November 22, 2010.

³ Commerce's January 13, 2011, letter does not indicate a change concerning its intent to revoke the order concerning granular PTFE resin from Japan. Letter from Susan Kuhbach, Office Director, AD/CVD Operations, Office 1, Department of Commerce to Catherine DeFilippo, January 12, 2011.

In light of these circumstances and to permit parties additional time to respond to the notice of institution, the Commission has determined to exercise its authority to extend its review period concerning the order on granular PTFE resin from Italy by up to 90 days pursuant to 19 U.S.C. 1675(c)(5)(B).⁴ The Commission's new schedule for the adequacy phase of the subject review is as follows: Entries of appearance and administrative protective order (“APO”) applications are due February 17, 2011; Responses to the 13 items requested in the Commission's notice of institution (75 FR 67105, November 1, 2010) are to be filed with the Secretary to the Commission not later than February 28, 2011; and party comments on the adequacy of responses may be filed with the Commission by April 11, 2011.

⁴ Since Commerce has not notified the Commission of a change in its position concerning the intent to revoke the order concerning granular PTFE resin from Japan, the Commission's change in the schedule of the adequacy phase concerning granular PTFE resin applies to only the order concerning Italy.

For further information concerning the conduct of this review and rules of general application, consult the Commission's institution notice (75 FR 67105, November 1, 2010) and the Commission's Rules of Practice and Procedure, part 201, subparts A through E (19 CFR part 201), and part 207, subparts A, D, E, and F (19 CFR part 207), as most recently amended at 74 FR 2847 (January 16, 2009).

Authority: This review is being conducted under authority of title VII of the Tariff Act of 1930; this notice is published pursuant to section 207.61 of the Commission's rules.

By order of the Commission.
Issued: January 21, 2011.
Marilyn R. Abbott,
Secretary to the Commission.

[FR Doc. 2011-1707 Filed 1-26-11; 8:45 am]

BILLING CODE 7020-02-P